DEPARTMENT OF ENERGY

Interim Management of Nuclear Materials

AGENCY: Department of Energy.

ACTION: Amended record of decision.

SUMMARY: On December 12, 1995, the U.S. Department of Energy (DOE) issued a Record of Decision (ROD) and Notice of Preferred Alternatives, 60 FR 65300 (December 19, 1995), for the final environmental impact statement, Interim Management of Nuclear Materials (IMNM EIS) (DOE/EIS-0220, October 20, 1995), at the Savannah River Site (SRS), Aiken, South Carolina. As part of its decision, DOE decided to construct a new facility, the Actinide Packaging and Storage Facility (APSF), to prepare, package, and store plutonium oxide and metal in accordance with DOE's plutonium storage standard, recently revised as Stabilization, Packaging, and Storage of Plutonium-Bearing Materials (DOE-STD-3013). The APSF also was intended to provide space for consolidated storage of plutonium and some special actinide materials at the SRS. Additionally, DOE decided that it would process approximately 14,000 liters (3,800 gallons) of americium and curium solution into a glass matrix (vitrify) within small stainless steel canisters (the “Vitrification (F-Canyon)” alternative). Modifications to the F-Canyon, where the americium/curium solution is stored, would be required to establish the vitrification stabilization capability. The canisters of vitrified americium/curium would have been stored in the F-Canyon building until DOE decided on its use or disposition.

For several reasons, including project cost growth concerns, DOE issued an amended ROD (66 FR 7888, January 26, 2001) which canceled the APSF project and decided to install the plutonium storage standard stabilization and packaging capability within Building 235-F, an existing plutonium storage and processing facility in the F-Area at the SRS. DOE also decided to use existing SRS vault storage space, including space in Building 235-F, to store plutonium (and other nuclear material inventories) pending disposition.

Now, after further review of project costs, schedules, and program requirements, DOE has canceled the Building 235-F Plutonium Packaging and Stabilization project and the F-Canyon Americium/Curium Vitrification project. To establish the capability to package plutonium in accordance with the plutonium storage standard (DOE-STD-3013), DOE will modify existing furnaces, or install new ones, and install an outer can welding capability within the FB-Line facility, located in Building 221-F. To stabilize the F-Canyon americium/curium solution, DOE will implement the Processing and Storage for Vitrification in the Defense Waste Processing Facility (DWPF) alternative analyzed in the IMNM EIS. This alternative includes the transfer of the solution to the SRS high-level waste (HLW) system, vitrification of the HLW solution in the DWPF, and storage of the resultant canisters in the DWPF Glass Waste Storage Building pending disposition in a geologic repository.

FOR FURTHER INFORMATION CONTACT: For further information on the interim management of nuclear materials at the SRS, to receive a copy of the final IMNM EIS, or a copy of the IMNM ROD(s), contact: Andrew R. Grainger, National Environmental Policy Act (NEPA) Compliance Officer, U.S. Department of Energy, Savannah River Operations Office, Building 730B, Room 2418, Aiken, South Carolina 29802, (800) 881-7292, Internet: drew.grainger@srs.gov

For further information on the DOE NEPA process, contact:

Carol M. Borgstrom, Director, Office of NEPA Policy and Compliance (EH-42), U.S. Department of Energy, 1000 Independence Avenue, SW., Washington, DC 20585, (202) 586-4600, or leave a message at (800) 472-2756.

Additionally, DOE NEPA information, including the IMNM Final EIS, can be found on the DOE NEPA Web site at: www.eh.doe.gov/nepa/.

SUPPLEMENTARY INFORMATION

Background

NEPA Review and Decisions

The U.S. Department of Energy (DOE) prepared a final environmental impact statement, Interim Management of Nuclear Materials (IMNM EIS) (DOE/EIS-0220, October 20, 1995), in accordance with the National Environmental Policy Act (NEPA), Council on Environmental Quality NEPA implementing regulations, and DOE implementing procedures. The IMNM EIS assessed the potential environmental impacts of actions necessary to safely manage nuclear materials at the SRS, Aiken, South Carolina, until decisions on their future use or ultimate disposition are made and implemented. The IMNM EIS grouped the nuclear materials at the SRS into three categories: Stable, Programmatic, and Candidates for Stabilization. Some of the “Programmatic” and all of the “Candidates for Stabilization” materials could have presented environmental, safety and health vulnerabilities in their then-current storage condition. For materials that could present environmental, safety, or health vulnerabilities within the next 10 years of the NEPA analysis, the IMNM EIS evaluated stabilization alternatives to meet the new plutonium storage standard to ensure safe storage (for up to 50 years). For non-plutonium materials, alternatives were evaluated that provided similar safe storage.

Plutonium Stabilization and Packaging for Long-Term Storage

The capability to meet the Department's plutonium storage standard, DOE-STD-3013, did not exist at the SRS or any other DOE site at the time of the preparation of the IMNM EIS. Subsequently, DOE has been working to establish this capability at its non-pit ¹ surplus plutonium sites. Facilities at the Rocky Flats Environmental Technology Site (RFETS, near Golden, Colorado), Hanford (Richland, Washington), and the Lawrence Livermore National Laboratory (Livermore, California) have been established and are now operating, packaging plutonium to the requirements of the storage standard. Stabilizing and packaging plutonium to the storage standard are generally the last steps in completing the stabilization process. The IMNM EIS considered two options to provide the long-term storage stabilization and packaging capability at the SRS: (1) The construction of a new facility (i.e., APSF), and (2) the modification of existing plutonium processing and storage facilities—Building 235-F and FB-Line, both in F-Area.

¹ A “pit” is a nuclear weapon component.

On December 12, 1995, DOE issued a Record of Decision (ROD) and Notice of Preferred Alternatives [published December 19, 1995 (60 FR 65300)], on the interim management of several categories of nuclear materials at the SRS. As part of its decision, DOE decided to construct a new facility, the APSF, to enable plutonium oxides to be stabilized, and plutonium oxide and metal to be repackaged in accordance with DOE's plutonium storage standard (DOE-STD-3013). The APSF also was intended to provide space for consolidated storage of plutonium and certain special actinide materials at the SRS.

In December 1996, DOE issued the Storage and Disposition of Weapons-Usable Fissile Materials Final Programmatic Environmental Impact Statement (Storage and Disposition PEIS, DOE/EIS-0229). The Storage and Disposition PEIS, among other things, assessed the potential environmental impacts of alternative approaches and locations for storing weapons-usable fissile materials (plutonium and highly enriched uranium). DOE decided in the Storage and Disposition ROD [published January 21, 1997 (62 FR 3014)], to expand the storage capacity of the prospective APSF at the SRS (from 2,000 storage positions to 5,000 storage positions) to accommodate the storage of surplus non-pit plutonium to be received from RFETS, pending disposition.² DOE also indicated in the Storage and Disposition ROD that DOE would pursue a strategy for surplus plutonium disposition that allows for immobilization of surplus weapons plutonium in glass or ceramic forms, and irradiation of surplus plutonium as mixed oxide (MOX) ³ fuel in existing commercial nuclear power reactors. The immobilized plutonium would be stored in the DWPF Glass Waste Storage Building at the SRS and the spent MOX fuel would be stored at the commercial nuclear power reactor site, pending disposal in a geologic repository.

² Non-pit weapons-usable plutonium would only move from the RFETS provided that: (1) The plutonium had been stabilized to meet the then-plutonium storage standard, DOE-STD-3013-96; (2) the construction of the APSE at the SRS had been completed; and, (3) the SRS had been selected as the immobilization disposition site for surplus weapons-usable plutonium.

³ A physical blend of uranium oxide and plutonium oxide.

Subsequently, in order to support the early closure of RFETS, DOE published an amended Storage and Disposition ROD August 13, 1998 (63 FR 43386), to allow the RFETS surplus non-pit plutonium to be sent to the SRS before completion of the APSF. Based upon the amended Storage and Disposition ROD, DOE undertook the K-Area Materials Storage (KAMS) project to modify existing space within Building 105-K to store surplus plutonium in shipping containers as received from RFETS, pending disposition.

On January 12, 2001, DOE issued an Amended IMNM ROD [published January 26, 2001 (66 FR 7888)], deciding to cancel the APSF project and instead establish a stabilization and packaging capability by modifying space within Building 235-F to prepare and package surplus plutonium for storage in accordance with DOE's plutonium storage standard, DOE-STD-3013. Additionally, DOE indicated it would use existing facilities (Building 221-F's FB-Line, Building 235-F, and KAMS) for plutonium storage, pending disposition.

Americium/Curium Solution Stabilization

In the ROD issued December 12, 1995, DOE selected the “Vitrification (F-Canyon)” alternative evaluated in the IMNM EIS to stabilize the existing americium/curium solution being stored in F-Canyon. DOE would have processed the americium/curium solution to a glass (“vitrify”) contained within small stainless steel canisters (14 inches tall, 2 inches in diameter). DOE would have modified an existing portion of F-Canyon (previously called the Multi-Purpose Processing Facility) to install the necessary vitrification equipment. The canisters would have been stored within the F-Canyon (Building 221-F) at the SRS until DOE made programmatic decision on the use of the americium and curium isotopes.

Other NEPA Reviews and Decisions

In addition to the December 12, 1995, and the January 12, 2001, RODs that relied upon the analyses of the IMNM EIS, DOE issued four supplemental RODs to make additional decisions and/or modify previous decisions concerning the management of nuclear materials at the SRS: (1) DOE published a supplemental ROD February 21, 1996 (61 FR 6633), identifying management actions for two categories of SRS nuclear materials: (a) DOE would stabilize the Mark-16 and Mark-22 fuels by processing them in the SRS canyon facilities and blending down the resulting highly enriched uranium to low enriched uranium, and (b) DOE would stabilize the “other aluminum-clad targets” by dissolving them in the SRS canyon facilities and transferring the resulting nuclear material solution to the HLW tanks for future vitrification in the DWPF; (2) DOE published a supplemental ROD September 13, 1996 (61 FR 48474), identifying management actions for two more categories of SRS nuclear materials: (a) DOE would dissolve, chemically separate, and process in F-Canyon obsolete neptunium-production targets and existing neptunium solution (stored in H-Canyon) to a glass form using a vitrification capability to be established in F-Canyon; and, (b) DOE would process existing H-Canyon plutonium-239 solutions to a glass form using a vitrification capability to be established in F-Canyon; (3) DOE published a supplemental ROD April 11, 1997 (62 FR 17790), identifying some additional spent nuclear fuel from the Taiwan Research Reactor that should be recategorized from Stable to Candidate for Stabilization and that this material would be processed through the SRS canyon facilities; and, (4) DOE published an amended ROD November 14, 1997 (62 FR 61099), modifying the decision to vitrify the H-Canyon plutonium-239 and neptunium to “Processing to Oxide” using H-Canyon facilities. These supplemental or amended decisions did not alter DOE's decisions related to the construction of the APSF or the vitrification of the americium/curium solution in F-Canyon.

In November 1999, DOE issued the Surplus Plutonium Disposition Final Environmental Impact Statement (SPD EIS) (DOE/EIS-0283), which analyzed alternatives for the siting, construction, and operation of three surplus plutonium disposition facilities. These three facilities would accomplish pit disassembly and conversion, plutonium conversion and immobilization, and MOX fuel fabrication. DOE published the Surplus Plutonium Disposition ROD on January 11, 2000 (65 FR 1608), which selected the SRS for all three of the new surplus plutonium disposition facilities.

Plutonium Stabilization and Storage Evaluations

As indicated in the January 12, 2001, Amended ROD (66 FR 7888), DOE determined after a review of plutonium storage and stabilization options, documented in Evaluation of Savannah River Plutonium Storage and Stabilization Options (July 2000), that cost savings of $180 million or more could be achieved by modifying space within Building 235-F in lieu of constructing the APSF.

As a result of program priorities and further review of an FB-Line low-cost option, DOE has canceled the Building 235-F Packaging and Stabilization Project. DOE has completed the conceptual design for an FB-Line project that would stabilize and package SRS plutonium in full compliance with the requirements of DOE-STD-3013; project costs are estimated to be $13.5 million to $29 million. This is substantially less than the Building 235-F project conceptual design estimate range of $160 million to $250 million. SRS plutonium stabilization and packaging activities using the FB-Line are estimated to begin earlier than Building 235-F, and complete stabilization and packaging activities within the same time-frame as Building 235-F (2006-2008), if not sooner. SRS plutonium, to include that stored in FB-Line, will be stored in Building 235-F and KAMS at the SRS after packaging to the plutonium storage standard.

Americium and Curium Vitrification Project Difficulties and Changes

The Department's February 28, 1995, Implementation Plan for DNFSB Recommendation 94-1 indicated that the americium/curium solution could be stabilized by September 1998 should the Vitrification (F-Canyon) alternative analyzed within the IMNM EIS be the selected stabilization alternative (with the corresponding ROD expected to be issued by July 1995). After more than five years of work on the americium/curium solution stabilization project, the time-table has been extended and the costs have increased for a variety of technical and programmatic reasons. Most recently, a project re-baseline request, submitted to DOE by the site contractor on March 19, 2001, identified a $68 million increase in estimated project costs, bringing total estimated project costs to $197 million. A subsequent request submitted April 6, 2001, identified an additional increase of up to $26 million to meet proposed geologic disposal waste criteria and would delay stabilization completion one year, to December 2006. These proposed changes would increase project costs by up to 73 percent.

One of the factors in DOE's selection process for stabilizing the americium and curium solution had been to preserve these rare isotopes, which are not likely to be produced again in any substantial quantity, for potential DOE or other research, medical, or industrial use. The Vitrification (F-Canyon) process would stabilize the americium and curium isotopes into a safe, long-term storable, but retrievable form.

Uncertainties and projections for project cost growth were becoming evident in mid-2000. In light of these rising costs and uncertainties in solution stabilization schedules, DOE's Office of Nuclear Energy, Science and Technology and Office of Science conducted an evaluation of the need for the americium and curium isotopes. No firm need for these special isotopes was identified, leading DOE to conclude that the material was excess to requirements and that maintaining the material indefinitely was unwarranted.

Based upon these events and determinations, DOE authorized the re-assessment of a waste disposal alternative for the americium/curium solution. Results from this re-assessment indicate: (1) The americium/curium solution can be transferred to the HLW system ⁴ in a single continuous transfer; (2) very little dilution is expected to be required, resulting in approximately ten additional DWPF canisters; (3) the transferred solution could be processed through DWPF in 2004-2007, substantially earlier than the previous expectation of 2020, or later; and (4) preliminary cost estimates indicate a savings of up to $116 million over continuing to pursue vitrification in F-Canyon. Subsequently, DOE has determined that there is no programmatic need for the americium and curium solution and that it can be dispositioned to the SRS HLW system, precluding any future recovery. DOE has, therefore, canceled the Americium/Curium Vitrification Project.

⁴ The SRS HLW system consists of a variety of facilities for the management, treatment, and vitrification of approximately 38 million gallons of HLW. The various facilities include the F- and H-Area tank farms (22 and 29 HLW tanks, respectively, with two tanks operationally closed), waste evaporators, DWPF, Saltstone, Extended Sludge Processing, Glass Waste Storage Building, piping and transfer systems.

Interim Management of Nuclear Materials EIS

Alternatives

The IMNM EIS analyzed several alternatives, including the No Action alternative (Continued Storage), for the interim management of eleven (11) types of nuclear materials at the SRS. All of the alternatives, except the No Action, would support DOE's objective of removing nuclear materials from vulnerable conditions and from vulnerable facilities in preparation for deactivation, decontamination, and decommissioning. The IMNM RODs include decisions to undertake stabilization and processing actions for ten (10) SRS nuclear material types categorized as “Candidates for Stabilization” and “Programmatic.” (DOE decided to continue existing actions for the “Stable” nuclear material types/category.) Seven of these nuclear materials types—(1) plutonium and uranium stored in vaults, (2) Mark-31 targets, (3) aluminum-clad Taiwan Research Reactor fuel and Experimental Breeder Reactor-II slugs, (4) plutonium-239 solutions, (5) plutonium-242 solutions, (6) neptunium-237 solutions, and, (7) americium/curium solution—require, or could require, a new capability to stabilize and package the material to DOE's storage standard, or comparable criteria, to complete stabilization for safe interim management and long-term storage.

The plutonium-242, neptunium-237, and americium/curium were categorized as programmatic materials in the IMNM EIS, but were analyzed for completeness of the potential impacts from stabilization and packaging for long-term storage. DOE has since stabilized the plutonium-242 to oxide and transferred it to the Los Alamos National Laboratory for programmatic use. The neptunium-237 has yet to be stabilized. However, DOE decided in a January 19, 2001, ROD for the Programmatic Environmental Impact Statement for Accomplishing Expanded Civilian Nuclear Energy Research and Development and Isotope Production Missions in the United States, Including the Role of the Fast Flux Test Facility [published January 26, 2001 (66 FR 7877)], that the neptunium-237 is required to reestablish the domestic production of plutonium-238. Once stabilized to oxide, the neptunium-237 will be shipped to the Radiochemical Engineering Development Center at the Oak Ridge National Laboratory (Oak Ridge, Tennessee) where it will be stored until fabrication into targets for irradiation, and plutonium-238 production, in the Advanced Test Reactor (near Idaho Falls, Idaho) and the High Flux Isotope Reactor (Oak Ridge, Tennessee). [Note: On April 25, 2001, the Secretary of Energy suspended for 90 days the decision to permanently deactivate the Fast Flux Test Facility as indicated in the above subject ROD. This suspension did not alter DOE's decision regarding the need for the SRS neptunium-237.] As discussed in this Amended ROD, the americium/curium continues to require stabilization.

Plutonium Stabilization and Packaging for Long-Term Storage

The IMNM EIS considered two options [see IMNM EIS, Chapter 2. Alternatives, and Appendix C, pp. C-41 to C-46] for stabilizing, packaging, and storing plutonium to DOE's storage standard—(1) the construction of the new APSF, and (2) the modification of existing facilities, FB-Line and Building 235-F. The storage standard is designed to help ensure the safe storage of the materials for long periods (e.g., up to 50 years). Each option was designed to provide the capability to heat plutonium oxide materials to drive off residual and absorbed moisture; package stabilized material (oxides and metal) in at least two corrosion-resistant containers (a container within a container) without the use of plastics, hydrogenous compounds, or organic material; weld-seal the outer container in an inert atmosphere to ensure weld joint and container material integrity; and store the stabilized material in sealed containers.

For modifications to the FB-Line in the F-Canyon building (Building 221-F) at the SRS, DOE had re-considered its previous decisions associated with the F-Canyon Plutonium Solutions Final Environmental Impact Statement (DOE/EIS-0219, December 1994). On February 1, 1995, DOE issued a ROD (60 FR 9824, February 22, 1995) to add to the FB-Line a capability to package plutonium metal within a single, inert gas-filled, welded container, without the need for plastic and other organic materials. During preparation of the IMNM EIS and its initial ROD, DOE concluded that adding the full stabilization and packaging mission to the FB-Line facility would delay completion of the FB-Line's nuclear materials stabilization activities and the planned shutdown of the FB-Line facility.

Since 1995, certain SRS nuclear material stabilization activities have been completed and plans for stabilizing other remaining materials have been altered. For plutonium-bearing residues, DOE stabilization decisions included dissolving the residues in nitric acid, purifying the solution, precipitating the solution back into a powder, and then either converting the powder to metal (if processed in FB-Line) or drying the powder (plutonium oxide, if processed in HB-Line) and canning. The FB-Line dissolver system, of 1960's vintage, has been shutdown since the mid-1980's and was not designed to today's safety standards. HB-Line is a newer facility (construction completed in the 1980's), and its dissolver system had been used satisfactorily in the mid- to late-1990's for the plutonium-238 program.

Now, based upon estimates for restart, plans to curtail materials separation and purification activities in F-Canyon, and the comparably better capabilities of the HB-Line dissolvers, DOE is no longer pursuing the restart of the FB-Line dissolver system. As documented in the “Department of Energy Plan for the Transfer of All Long-Term Chemical Separation Activities at the Savannah River Site from the F-Canyon Facility to the H-Canyon Facility Commencing in Fiscal Year 2002,” and provided to the Congress on April 10, 2001, DOE expects to complete nuclear material stabilization activities that would use the F-Canyon's separation and purification capabilities in fiscal year 2002. Material characterization and packaging, as well as material storage, activities will continue in FB-Line supporting the dissolution of plutonium-bearing residues in HB-Line, the packaging and preparation of other residues for disposition to waste, and the characterization and staging of other plutonium-bearing materials for heat treatment and packaging to the long-term plutonium storage standard. The FB-Line material characterization and packaging activity is scheduled to continue through 2005. Establishing the DOE-STD-3013 stabilization and packaging capability within FB-Line can complement the facility's ongoing missions by reducing nuclear material handling and transportation requirements.

Americium/Curium Solution Stabilization

To manage the approximately 14,000 liters (3,800 gallons) of americium/curium solution stored within a single tank (Tank 17.1) in F-Canyon, DOE evaluated four alternatives in the IMNM EIS: (1) Vitrification (F-Canyon), the selected alternative in the December 12, 1995, ROD; (2) Processing to Oxide; (3) Processing and Storage for Vitrification in the DWPF; and, (4) Continuing Storage (i.e., “No Action”).

Under the Vitrification (F-Canyon) alternative, DOE would modify existing space in the F-Canyon, providing equipment to vitrify the americium/curium radioactive solution into a glass matrix. After completing the modifications, DOE would vitrify the existing solution of americium and curium isotopes. DOE identified Vitrification (F-Canyon) as the preferred alternative for stabilizing the americium/curium solution in the IMNM EIS.

For the Processing and Storage for Vitrification in the DWPF alternative, DOE would perform research and development work to determine the chemical adjustments necessary for the americium/curium solution in the F-Canyon in order to transfer it to the HLW tanks in F- or H-Area. The research and development work would evaluate the effects on the systems and facilities used to store and treat the liquid HLW. Upon completion of the studies, the americium/curium solution would be chemically adjusted and transferred to the HLW tank(s) via underground pipelines. When transferred to the HLW tank(s), the solution would be mixed with the existing volume of HLW stored in the tank(s). The bulk of the radioactivity in the HLW tank(s) solution would eventually be vitrified in borosilicate glass in the DWPF. The glass would be contained within stainless steel canisters that would be stored in the Glass Waste Storage Building, adjacent to the DWPF, pending disposal in a geologic repository.

Potential Environmental Impacts

The IMNM EIS analyzed potential impacts of alternatives for managing all SRS nuclear materials, those materials that were expected to present a environment, safety, or health vulnerabilities as well as those determined to be stable. Summaries of potential impacts from the alternatives are presented in the IMNM EIS, Table 2-2 through Table 2-12 (pp. 2-48 through 2-58).

The IMNM EIS indicated that there would be minimal environmental impacts from the implementation of any alternative (including the APSF, Building 235-F, or FB-Line options for plutonium stabilization and storage activities, and the americium/curium stabilization alternatives involving F-Canyon or DWPF processing) in the areas of geologic, ecological, cultural, aesthetic and scenic resources, noise, and land use. Impacts in these areas would be limited because facility modifications or construction of new facilities would occur within existing buildings or industrialized portions of the SRS. The existing SRS workforce would support any construction projects and other activities required to implement any of the alternatives, and thus negligible socioeconomic impacts would be expected from implementing any of the alternatives.

Emissions of hazardous air pollutants and releases of hazardous liquid effluents from any of the alternatives would be very small and well within applicable standards and existing regulatory permits ⁵ for the SRS facilities. DOE expects minimal impacts from any of these releases. Similarly, for any of the IMNM EIS alternatives, potential transuranic waste, mixed hazardous waste, and low-level solid waste generated would be handled by existing waste management (treatment, storage, and disposal) facilities at the SRS.

⁵ The IMNM EIS inidcates many of the constituent releases would be expected to be several orders of magnitude below the permit or regulatory limits.

Plutonium Stabilization and Packaging for Long-term Storage

DOE has reviewed the IMNM EIS and determined that there are no substantial changes in the proposed modification of FB-Line nor are there any significant new circumstances or information relevant to environmental impacts that would result from modifying FB-Line. The analysis of potential environmental impacts and the description of the FB-Line option in the IMNM EIS have not changed since the Final EIS was issued.

While the IMNM EIS indicated that potential adverse impacts to the environment, public, or workers would be small for the packaging and storage alternatives, there would be minor differences between the APSF “new construction” option and the Building 235-F or FB-Line modification options. The modification to FB-Line would involve work in an existing and radiologically contaminated facility, thereby potentially leading to a small increase over the APSF option in radiological waste generation and construction worker exposure. Through the use of site administrative control limits, however, no worker would be expected to receive a radiological dose beyond that allowed for radiological workers from normal operations, or from facility modification work. Likewise, the existing waste management facilities are capable of handling the additional radiological waste that would result from the FB-Line modification.

Americium/Curium Solution Stabilization

While the IMNM EIS indicates that potential environmental impacts from any of the nuclear material management alternatives are small, those management alternatives requiring the processing of nuclear material through the large chemical separations facilities (the canyons and B-Lines), such as the vitrification of the americium/curium solution in the F-Canyon, would have greater environmental impacts during the time that dissolving, processing or conversion activities are underway than when these facilities are storing nuclear materials. After materials have been stabilized, impacts of normal facility operations related to management of those materials would decline, and potential impacts of accidents associated with those materials would be reduced, with certain kinds of accidents eliminated (e.g., americium/curium solution leaking or being improperly transferred from its existing storage tank). The americium/curium solution presents the greatest radiological source term (approximately 230,000 curies) within any of the nuclear material processing and storage facilities. Based upon an average HLW tank radioactivity content of 8.5 million curies, the transfer of the americium/curium solution to a single HLW tank would increase the HLW tank's radioactivity level by 0.23 million curies, or less than two and one-half percent.

Environmentally Preferable Alternative

Plutonium Stabilization and Packaging for Long-term Storage

The IMNM EIS indicated that potential adverse impacts to the environment, public, or workers would be small for the APSF, Building 235-F, or FB-Line options. While small increases in radiological waste and worker radiological exposure could be expected from the Building 235-F and FB-Line modification options over the APSF option, all options would involve relatively small impacts, and thus neither could be deemed environmentally preferable over the other.

Americium/Curium Solution Stabilization

Processing and Storage for Vitrification in the DWPF is the environmentally preferable alternative for stabilizing the americium/curium solution (as well as for americium/curium containing metal targets and slugs). This alternative is estimated to result in the lowest radiological doses to the offsite public and the SRS workers; have the lowest level of hazardous pollutant emissions to the air with comparable levels of liquid effluent emissions; and result in the least amount of high-level, transuranic and mixed waste with comparable amounts of low level waste.

Decision

After further review of the Building 235-F Stabilization and Storage Project and the Americium/Curium Vitrification Project (using a capability to be installed within F-Canyon's Multi-Purpose Processing Facility), DOE is amending its previous decisions issued in December 1995 and January 2001. The alternative approaches being implemented are estimated to have substantially reduced costs, which allows DOE to reduce capital expenditure requirements to levels more consistent with current and projected budget resources. Likewise, these alternatives offer the potential to complete certain nuclear materials stabilization activities sooner, reducing further the already low risks to workers, the public, and the environment.

Plutonium Stabilization and Packaging for Long-term Storage

DOE is amending its January 2001 ROD to provide a SRS capability for the stabilization and packaging of plutonium to the storage standard (DOE-STD-3013). Instead of modifying existing space within Building 235-F, DOE will modify existing space within the FB-Line facility, located within and atop the F-Canyon (Building 221-F). This decision will allow DOE to stabilize and package plutonium to the storage standard within the same time-frame, if not sooner, as would a modified Building 235-F. DOE will continue to use existing vault space in Building 235-F and Building 105-K (KAMS) for interim storage pending disposition, and existing vault space in FB-Line for interim storage during stabilization actions.

Americium/Curium Solution Stabilization

DOE is amending its December 1995 ROD for stabilizing americium and curium solution at the SRS. Instead of implementing the “Vitrification (F-Canyon)” alternative DOE will implement the “Processing and Storage for Vitrification in the Defense Waste Processing Facility” alternative analyzed in the IMNM EIS. For this alternative, DOE will transfer the solution, after chemical adjustments as necessary, to the HLW storage and treatment system. The americium and curium isotopes will be vitrified to a glass form with SRS HLW in the DWPF. DWPF canisters are being stored on-site in the Glass Waste Storage Building pending transfer to a geologic repository for permanent disposal. DOE estimates approximately ten additional DWPF canisters [approximately 6000 DWPF canisters are forecast to be produced at the SRS] will result from adding the americium/curium solution to the HLW inventory.

Issued at Washington, DC, October 19, 2001.
Jessie Hill Roberson,
Assistant Secretary for Environmental Management.

[FR Doc. 01-27437 Filed 10-31-01; 8:45 am]

BILLING CODE 6450-01-P